DEPARTMENT OF TRANSPORTATION

Federal Aviation Administration

Notice of Meeting of the National Parks Overflights Advisory Group

ACTION: Notice of meeting.

SUMMARY: The Federal Aviation Administration (FAA) and the National Park Service (NPS), in accordance with the National Parks Air Tour Management Act of 2000, announce the next meeting of the National Parks Overflights Advisory Group (NPOAG). This notification provides the date, location, and agenda for the meeting.

DATES: The NPOAG will meet on April 10-11, 2024. The meeting will take place in Conference Center Room 207 at the Volpe Center, 220 Binney St., Cambridge, MA. The meeting will be held from 8:30 a.m. to 5:00 p.m. on April 10, 2024, and from 8:30 a.m. to 12:30 p.m. on April 11, 2024. This NPOAG meeting is open to the public.

FOR FURTHER INFORMATION CONTACT: Sandra Fox, sandra.y.fox@faa.gov; (202)-267-0928; 800 Independence Ave. SW, Suite 900W, Washington, DC 20591.

SUPPLEMENTARY INFORMATION: The National Parks Air Tour Management Act of 2000 (NPATMA), enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year terms as chairperson of the advisory group.

The duties of the NPOAG include providing advice, information, and recommendations to the FAA Administrator and the NPS Director on; implementation of Public Law 106-181; quiet aircraft technology; other measures that might accommodate interests to visitors of national parks; and at the request of the Administrator and the Director, on safety, environmental, and other issues related to commercial air tour operations over national parks or tribal lands.

Agenda for the April 10-11, 2024, NPOAG Meeting

The agenda for the meeting will include, but is not limited to, an update on ongoing park specific air tour management plans or voluntary agreements, status of agency implementation of court approved plan/schedule, update on environmental review process and special purpose law consultations, and public comment review process.

Attendance at the Meeting and Submission of Written Comments

Although this is not a public meeting, interested persons may attend. Because seating is limited, please contact the person listed under FOR FURTHER INFORMATION CONTACT no later than March 22, 2024, if you plan to attend so that meeting space may be made to accommodate all attendees. Written comments regarding the meeting will be accepted directly from attendees or may be sent to the person listed under FOR FURTHER INFORMATION CONTACT.

Record of the Meeting

If you cannot attend the NPOAG meeting, a summary of the meeting will be made available under the NPOAG section of the FAA ATMP website at: https://www.faa.gov/about/office_org/headquarters_offices/apl/aee/air_tour_management_plan or by contacting the person listed under FOR FURTHER INFORMATION CONTACT.

Issued in Washington, DC, on February 29, 2024.
Sandra Fox,
Environmental Protection Specialist, Office of Environment and Energy.

[FR Doc. 2024-04672 Filed 3-5-24; 8:45 am]

BILLING CODE 4910-13-P